DEPARTMENT OF AGRICULTURE

National Agricultural Library

Notice of Intent To Seek Approval To Collect Information

AGENCY: Agricultural Research Service (ARS), USDA.

ACTION: Notice and request for comments.

SUMMARY: In accordance with the Paperwork Reduction Act of 1995 (Pub. L. 104-13) and Office of Management and Budget (OMB) regulations at 5 CFR part 1320 (60 FR 44978, August 29, 1995), this notice announces the Agricultural Research Service's intent to electronically survey farmers about the current level of effectiveness of transferring ARS developed technology to farmers and identify how to improve the technology transfer process.

DATES: Comments on this notice must be received by December 24, 2009 to be assured of consideration.

ADDRESSES: Address all comments concerning this notice to Bryan Kaphammer, Technology Transfer Coordinator, U.S. Department of Agriculture Agricultural Research Service, 2150 Centre Avenue, Building D, Fort Collins, CO 80526-8119. Comments may be sent by facsimile to (970) 492-7023, or e-mail to bryan.kaphammer@ars.usda.gov.

FOR FURTHER INFORMATION CONTACT: Bryan Kaphammer, telephone (970) 492-7028.

SUPPLEMENTARY INFORMATION: Title: National Program 216 Technology Transfer Project End-users' Inputs.

OMB Number:

Expiration Date:

Type of Request: Approval for data collection from individual farmers.

Abstract: This survey contains eighteen items. The majority of the questions ask for multiple choice answers. The Agricultural Research Service's mission is to develop science based solutions to the countries agricultural problems. Transferring these solutions to the U.S. agricultural community is a major part of ARS' mission. The purpose of this short survey is to determine the current situation of transferring technology from Agricultural Research Service to farmers and identify alternatives to improve the technology transferring process and better meet the farmer's technological needs.

Estimate of Burden: Public reporting burden for this collection of information is estimated to average five minutes per respondent.

Respondents: Individuals who are interested in joining an electronic discussion group.

Estimated Number of Respondents: 2,500 per year.

Estimated Total Annual Burden on Respondents: 12,500 minutes or 208.3 hours.

Comments are invited on (a) Whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: October 1, 2009.
Richard Brenner,
Assistant Administrator, ARS.

[FR Doc. E9-25228 Filed 10-19-09; 8:45 am]

BILLING CODE 3410-03-P